DEPARTMENT OF TRANSPORTATION

Federal Aviation Administration

14 CFR Part 39

[Docket No. FAA-2019-0862; Project Identifier 2019-NM-121-AD; Amendment 39-21552; AD 2021-10-19]

RIN 2120-AA64

Airworthiness Directives; The Boeing Company Airplanes

AGENCY: Federal Aviation Administration (FAA), DOT.

ACTION: Final rule.

SUMMARY: The FAA is adopting a new airworthiness directive (AD) for certain The Boeing Company Model 767-200, -300, -300F, and -400ER series airplanes. This AD was prompted by a determination that new or more restrictive airworthiness limitations (AWLs) are necessary. This AD requires revising the existing maintenance or inspection program, as applicable, to incorporate new or more restrictive airworthiness limitations. The FAA is issuing this AD to address the unsafe condition on these products.

DATES: This AD is effective July 1, 2021.

The Director of the Federal Register approved the incorporation by reference of certain publications listed in this AD as of July 1, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2019-0862.

Examining the AD Docket

You may examine the AD docket at https://www.regulations.gov by searching for and locating Docket No. FAA-2019-0862; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Wayne Lockett, Aerospace Engineer, Airframe Section, FAA, Seattle ACO Branch, 2200 South 216th St., Des Moines, WA 98198; phone and fax: 206-231-3524; email: wayne.lockett@faa.gov.

SUPPLEMENTARY INFORMATION:

Background

The FAA issued a notice of proposed rulemaking (NPRM) to amend 14 CFR part 39 by adding an AD that would apply to certain The Boeing Company Model 767-200, -300, -300F, and -400ER series airplanes. The NPRM published in the Federal Register on November 7, 2019 (84 FR 60007). The NPRM was prompted by a determination that new or more restrictive AWLs are necessary. In the NPRM, the FAA proposed to require revising the existing maintenance or inspection program, as applicable, to incorporate new or more restrictive AWLs.

The FAA issued a supplemental notice of proposed rulemaking (SNPRM) to amend 14 CFR part 39 by adding an AD that would apply to certain The Boeing Company Model 767-200, -300, -300F, and -400ER series airplanes. The SNPRM published in the Federal Register on February 24, 2021 (86 FR 11158). The SNPRM was prompted by a determination that new or more restrictive AWLs are necessary. The SNPRM proposed to add airplanes to the applicability, and to require revising the existing maintenance or inspection program, as applicable, to incorporate new or more restrictive AWLs. The FAA is issuing this AD to address inadequate AWL and damage tolerance rating (DTR) values in the maintenance or inspection program that reduce the probability of detection for foreseeable fatigue cracking of structurally significant items (SSIs). This condition, if not addressed, could result in the loss of limit load capability of an SSI as well as loss of continued safe flight and landing of the airplane.

Discussion of Final Airworthiness Directive

Comments

The FAA received comments from Boeing, FedEx Express, and United Airlines, who stated support for the SNPRM without change.

Conclusion

The FAA reviewed the relevant data, considered the comments received, and determined that air safety requires adopting this AD as proposed. Except for minor editorial changes, this AD is adopted as proposed in the SNPRM. None of the changes will increase the economic burden on any operator.

Related Service Information Under 1 CFR Part 51

The FAA reviewed the following service information, which specifies AWLs for structural inspections and structural safe life limits, among other limitations. These documents are distinct since they apply to different airplane configurations.

• Boeing 767-200/300/300F/400ER Airworthiness Limitations (AWLs), D622T001-9-01, dated July 2020.

• Boeing 767-200/300/300F/400ER Airworthiness Limitations—Line Number Specific, D622T001-9-02, dated August 2020.

The FAA also reviewed Boeing 767-200/300/300F/400ER Damage Tolerance Rating (DTR) Check Form Document, D622T001-DTR, dated February 2020. This service information includes the DTR check forms and the procedure for their use.

This service information is reasonably available because the interested parties have access to it through their normal course of business or by the means identified in ADDRESSES.

Costs of Compliance

The FAA estimates that this AD affects 542 airplanes of U.S. registry. The FAA estimates the following costs to comply with this AD:

The FAA has determined that revising the existing maintenance or inspection program takes an average of 90 work-hours per operator, although the FAA recognizes that this number may vary from operator to operator. Since operators incorporate maintenance or inspection program changes for their affected fleet(s), the FAA has determined that a per-operator estimate is more accurate than a per-airplane estimate. Therefore, the FAA estimates the total cost per operator to be $7,650 (90 work-hours × $85 per work-hour).

Estimated Costs of On-Condition Actions
Action | Labor cost | Parts cost | Cost per product
Reporting | 1 work-hour × $85 per hour = $85 | $0 | $85

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-10-19 The Boeing Company: Amendment 39-21552; Docket No. FAA-2019-0862; Project Identifier 2019-NM-121-AD.

(a) Effective Date

This airworthiness directive (AD) is effective July 1, 2021.

(b) Affected ADs

This AD affects AD 2014-14-04, Amendment 39-17899 (79 FR 44672, August 1, 2014) (AD 2014-14-04).

(c) Applicability

(1) This AD applies to The Boeing Company Model 767-200, -300, -300F, and -400ER series airplanes, certificated in any category, line numbers 1 through 1218 inclusive.

(2) Installation of Supplemental Type Certificate (STC) ST01920SE affects the ability to accomplish some of the actions required by this AD. Therefore, for airplanes on which STC ST01920SE is installed, a “change in product” alternative method of compliance (AMOC) approval may be necessary to comply with the requirements of 14 CFR 39.17.

(d) Subject

Air Transport Association (ATA) of America Code 27, Flight Controls; 52, Doors; 53, Fuselage; 54, Nacelles/pylons; 55, Stabilizers; 57, Wings.

(e) Unsafe Condition

This AD was prompted by a determination that new or more restrictive airworthiness limitations (AWLs) are necessary. The FAA is issuing this AD to address inadequate AWL and damage tolerance rating (DTR) values in the maintenance or inspection program that reduce the probability of detection for foreseeable fatigue cracking of structurally significant items (SSIs). This condition, if not addressed, could result in the loss of limit load capability of an SSI as well as loss of continued safe flight and landing of the airplane.

(f) Compliance

Comply with this AD within the compliance times specified, unless already done.

(g) Maintenance or Inspection Program Revision

Within 24 months after the effective date of this AD, revise the existing maintenance or inspection program, as applicable, to incorporate the information specified in Boeing 767-200/300/300F/400ER Airworthiness Limitations (AWLs), D622T001-9-01, dated July 2020; and Boeing 767-200/300/300F/400ER Damage Tolerance Rating (DTR) Check Form Document, D622T001-DTR, dated February 2020. Except as specified in paragraph (h) of this AD, the initial compliance time for doing the tasks is at the time specified in Boeing 767-200/300/300F/400ER Airworthiness Limitations (AWLs), D622T001-9-01, dated July 2020; and Boeing 767-200/300/300F/400ER Damage Tolerance Rating (DTR) Check Form Document, D622T001-DTR, dated February 2020; or within 24 months after the effective date of this AD; whichever occurs later.

(h) Exceptions

(1) Where Boeing 767-200/300/300F/400ER Airworthiness Limitations (AWLs), D622T001-9-01, dated July 2020, specifies compliance times (“thresholds”) for wing tank sealant removal and ensuring sealant location limits are met, these actions must be accomplished within the compliance times specified in Boeing 767-200/300/300F/400ER Airworthiness Limitations (AWLs), D622T001-9-01, dated July 2020; or at or before the next accomplishment of the specific Maintenance Planning Document (MPD) task, but no later than 6 years after the effective date of this AD; whichever occurs later.

(2) For any horizontal stabilizer pivot fitting lug (SSI 55-10-I13A) on which a lug bore oversize repair has been accomplished: Within 24 months after the effective date of this AD, re-evaluate the repair and obtain revised inspection intervals, as applicable, in accordance with the procedures specified in paragraph (l) of this AD.

(3) Where Boeing 767-200/300/300F/400ER Airworthiness Limitations (AWLs), D622T001-9-01, dated July 2020; and Boeing 767-200/300/300F/400ER Damage Tolerance Rating (DTR) Check Form Document, D622T001-DTR, dated February 2020; specify to submit reports within 10 days, those reports may be submitted within 10 days after the airplane is returned to service.

(4) For airplanes having line numbers identified in Boeing 767-200/300/300F/400ER Airworthiness Limitations—Line Number Specific, D622T001-9-02, dated August 2020: Revising the existing maintenance or inspection program, as applicable, to incorporate the information specified in Boeing 767-200/300/300F/400ER Airworthiness Limitations—Line Number Specific, D622T001-9-02, dated August 2020, is an acceptable method of compliance with paragraph (g) of this AD for the tasks specified in Boeing 767-200/300/300F/400ER Airworthiness Limitations—Line Number Specific, D622T001-9-02, dated August 2020, only. The initial compliance time for doing the tasks is at the time specified in Boeing 767-200/300/300F/400ER Airworthiness Limitations—Line Number Specific, D622T001-9-02, dated August 2020; or within 24 months after the effective date of this AD; whichever occurs later. For all other tasks specified in the service information identified in paragraph (g) of this AD, the requirements of paragraph (g) of this AD remain fully applicable and must be complied with.

(i) No Alternative Actions or Intervals

After the existing maintenance or inspection program has been revised as required by paragraph (g) of this AD, no alternative actions (e.g., inspections) or intervals may be used unless the actions or intervals are approved as an alternative method of compliance (AMOC) in accordance with the procedures specified in paragraph (l) of this AD.

(j) Terminating Action for AD 2014-14-04

Accomplishing the actions required by this AD terminates all requirements of AD 2014-14-04.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to Information Collection Clearance Officer, Federal Aviation Administration, 10101 Hillwood Parkway, Fort Worth, TX 76177-1524.

(l) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (m) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, to make those findings. To be approved, the repair method, modification deviation, or alteration deviation must meet the certification basis of the airplane, and the approval must specifically refer to this AD.

(4) AMOCs for repairs and alterations approved previously for AD 2003-18-10, Amendment 39-13301 (68 FR 53503, September 11, 2003) (AD 2003-18-10), and AD 2014-14-04 are approved as AMOCs for the corresponding actions specified in this AD. All other AMOCs for AD 2003-18-10 and AD 2014-14-04 are not approved as AMOCs for this AD.

(5) Repairs done before the effective date of this AD that meet the conditions specified in paragraphs (l)(5)(i) through (iii) of this AD are acceptable methods of compliance for the repaired area where the inspections of the baseline structure cannot be accomplished.

(i) The repair was approved under both 14 CFR 25.571 and 14 CFR 26.43(d) by The Boeing Company ODA that has been authorized by the Manager, Seattle ACO Branch, FAA, to make those findings.

(ii) The repair approval provides an inspection program (inspection threshold, method, and repetitive interval).

(iii) Operators revised their existing maintenance or inspection program, as applicable, to include the inspection program (inspection threshold, method, and repetitive interval) for the repair.

(m) Related Information

For more information about this AD, contact Wayne Lockett, Aerospace Engineer, Airframe Section, FAA, Seattle ACO Branch, 2200 South 216th St., Des Moines, WA 98198; phone and fax: 206-231-3524; email: wayne.lockett@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing 767-200/300/300F/400ER Airworthiness Limitations (AWLs), D622T001-9-01, dated July 2020.

(ii) Boeing 767-200/300/300F/400ER Airworthiness Limitations—Line Number Specific, D622T001-9-02, dated August 2020.

(iii) Boeing 767-200/300/300F/400ER Damage Tolerance Rating (DTR) Check Form Document, D622T001-DTR, dated February 2020.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on May 5, 2021.
Lance T. Gant,
Director, Compliance & Airworthiness Division, Aircraft Certification Service.

[FR Doc. 2021-11065 Filed 5-26-21; 8:45 am]

BILLING CODE 4910-13-P